DEPARTMENT OF TRANSPORTATION

National Highway Traffic Safety Administration

[Docket No. NHTSA-XXXX-XXXX]

Public Workshop on Corporate Average Fuel Economy Reporting Templates

AGENCY: National Highway Traffic Safety Administration (NHTSA), Department of Transportation (DOT).

ACTION: Notification of rescheduled public workshop.

SUMMARY: This notice announces that NHTSA will hold a workshop to present and demonstrate three compliance reporting templates for the Corporate Average Fuel Economy (CAFE) Program. Two of the templates will be required for reporting; the third template will be optional but is recommended for ease of reporting. The workshop will provide a demonstration of the use of the templates, which automobile manufacturers will use to provide NHTSA required compliance data.

DATES: NHTSA will hold the public workshop on July 12, 2022 from 9 a.m. to 4:30 p.m., Eastern Standard Time. The workshop will be held virtually. Log-in on the day of the workshop will begin at 9 a.m. Attendance requires electronic registration and confirmation in advance and is free.

ADDRESSES: Vehicle manufacturers and other interested parties who wish to attend the workshops are asked to pre-register by June 30, 2022. Attendees should register online at https://www.nhtsa.gov/events/workshop-cafe-reporting-template, by June 30, 2022. Registration is necessary for all attendees; please register even if you were previously registered for the workshop that was scheduled in January 2022. Please provide your name, email address, and affiliation. Registrations may be accepted after that date, space permitting. Attendees are encouraged to submit questions related to reporting and credit related technical issues to be considered for discussion during the workshop. These questions should be submitted via email to cafe@dot.gov.

FOR FURTHER INFORMATION CONTACT: If you have questions about registering or connecting to the public workshop, please contact NHTSA staff at NHTSA.Communication@dot.gov or Chris LaMance at frederick.lamance@dot.gov or (202) 366-7568. For questions concerning the workshop discussions contact Maurice Hicks at Maurice.Hicks@dot.gov or (202) 366-5289.

We are committed to providing equal access to this event for all participants. Persons with disabilities in need of an accommodation should contact Maurice Hicks at (202) 366-5289 or, NHTSA.Communication@dot.gov to request an accommodation no later than July 5, 2022.

SUPPLEMENTARY INFORMATION: 49 CFR part 537, “Automotive Fuel Economy Reports,” requires manufacturers to provide early model year projections on automobiles demonstrating how they intend to comply with CAFE standards. The regulation requires manufacturers to submit a pre-model year (PMY) report by December 31 before the model year and a mid-model year (MMY) report by July 31 of the model year. When NHTSA received and reviewed manufacturers' projection reports for Model Years (MY) 2013 through 2015, the agency observed that most did not conform to the requirements specified in part 537. In a 2015 notice of proposed rulemaking, NHTSA proposed to amend part 537 to require a new data format for manufacturers' CAFE projection reporting template.¹ However, NHTSA did not adopt the proposed data format from the 2015 proposed rule after receiving adverse comments from manufacturers.²

¹ 80 FR 40540 (Jul. 13, 2015).

² 81 FR 73958 (Oct. 25, 2016).

After identifying the sources of manufacturers' concerns, in the April 2020 CAFE final rule, NHTSA established a new standardized template for reporting PMY and MMY information, as specified in 49 CFR 537.7(b) and (c), as well as for the supplementary information required by 49 CFR 537.8. The new template allows manufacturers to build out the required confidential versions of CAFE reports specified in 49 CFR part 537, and to automatically produce the required non-confidential versions by clicking a button within the template. The standardized template assists manufacturers in providing the agency with all necessary data, thereby helping manufacturers to ensure they are complying with CAFE regulations. The template organizes the required data in a manner consistent with NHTSA and the Environmental Protection Agency (EPA) regulations and simplifies the reporting process by incorporating standardized responses consistent with those provided to EPA. The template collects the relevant data, calculates intermediate and final values in accordance with EPA and NHTSA methodologies, and aggregates all the final values required by NHTSA regulations in a single summary worksheet.

Thus, NHTSA believes that the standardized template will benefit both the agency and manufacturers by helping to avoid reporting errors, such as data omissions and miscalculations, and will ultimately simplify and streamline reporting. NHTSA requires that manufacturers use the standardized Projection Reporting Template for all PMY, MMY, and supplementary CAFE reports beginning in MY 2023. NHTSA also modified its existing compliance database to accept and import the standardized template and automatically aggregate manufacturers' data. This allows NHTSA to execute its regulatory obligations to the public more efficiently and effectively. Overall, the template helps to ensure compliance with data requirements under the Energy Policy and Conservation Act/Energy Independence and Security Act and drastically reduce the industry and government's burden for reporting in accordance with the Paperwork Reduction Act.³ The reporting template is available for download through the Public Information Center (PIC) located at: https://one.nhtsa.gov/cafe_pic/home—see “Light Duty Templates: NHTSA CAFE Projections Reporting Template”.

³ 44 U.S.C. 3501 et seq.

To reduce the burden on all parties, encourage compliance, and facilitate quicker NHTSA credit transaction approval, in the April 2020 final rule, NHTSA added a new template to standardize the information parties submit to the agency to request a credit transaction. Often manufacturers inconsistently submit the information required by 49 CFR 536.8, making it difficult for NHTSA to process transactions. The credit transaction template is a simple spreadsheet that credit holders and trading parties fill out. When completed, parties are able to click a button on the spreadsheet to generate a credit transaction summary, and if applicable, credit trade confirmation, the latter of which needs to be signed by both trading entities. The credit trade confirmation serves as an acknowledgement that the parties have agreed to trade credits. The completed credit trade summary, and a PDF copy of the signed trade confirmation must be submitted to NHTSA. Using the Credit Transaction Template simplifies the credit trading process for the Office of Vehicle Safety Compliance and manufacturers and helps to ensure that trading parties follow the requirements for a credit transaction found in 49 CFR 536.8(a).⁴ Additionally, the credit trade confirmation includes an acknowledgement of the “error or fraud” provisions in 49 CFR 536.8(f)-(g), and the finality provision of 49 CFR 536.8(g). The credit transaction template is available for download through the PIC located at: https://one.nhtsa.gov/cafe_pic/home—see “Light Duty Templates: NHTSA CAFE Credit Transaction Template”.

⁴ Submitting a properly completed template and accompanying transaction letter will satisfy the trading requirements in 49 CFR part 536.

Finally, NHTSA adopted requirements in the 2020 final rule requiring manufacturers to submit the costs of all credit trade contracts to the agency starting September 1, 2022. NHTSA intends to use this information to more accurately assess the cost of compliance for all manufacturers. This information would allow NHTSA to better assess the impact of its regulations on the industry and provide more insightful information in developing future rulemakings. To assist manufacturers in submitting the required information, NHTSA has developed an optional Credit Value Template. The template lays out what sort of credit cost information NHTSA expects to receive from manufacturers and reduces the need for any additional questions or clarification when reporting is received.

Note, the credit value template is available for download through the PIC located at: https://one.nhtsa.gov/cafe_pic/home—see “Light Duty Templates: NHTSA CAFE Credit Value Reporting Template”.

In the May 2022 rulemaking, NHTSA also committed to demonstrate its templates through a workshop designed to give manufacturers an open forum for communicating directly with the agency. This notice satisfies that obligation and announces the details of the workshop.

Public Workshop Agenda ⁵

⁵ The agenda is subject to change.

9-9:30 a.m.—Welcome and Introductory Remarks

9:30-10:30 a.m.—PMY/MMY Reporting Template (Part 1)

10:30-11:30 a.m.—PMY/MMY Reporting Template (Part 2-Examples)

11:30 a.m.-12 p.m.—Credit Transaction Template

12-12:30 p.m.—Public Information Center Overview

12:30-1:30 p.m.—Lunch Break

1:30-2:30 p.m.—Credit Value Reporting Template

2:30-3:30 p.m.—FAQ Session

3:30-4:30 p.m.—CAFE 101—CAFE Compliance Process Overview

Participation in Public Workshop

If you do not receive your confirmation email(s), or have further questions about this event, please email NHTSA.Communication@dot.gov.

Issued in Washington, DC, under authority delegated in 49 CFR 1.95, 501.8(g).

Anne Collins,
Associate Administrator for Enforcement.

[FR Doc. 2022-12214 Filed 6-6-22; 8:45 am]

BILLING CODE 4910-59-P